DEPARTMENT OF ENERGY

Federal Energy Regulatory Commission

[Docket No. CP01-9-000]

Granite State Gas Transmission, Inc.; Notice of Request Under Blanket Authorization

October 17, 2000.

Take notice that on October 10, 2000, Granite State Gas Transmission, Inc. (Granite State), 300 Friberg Parkway, Westborough, Massachusetts 01581, filed in Docket No. CP01-9-000 a request pursuant to Sections 157.205 and 157.216 of the Commission's Regulations under the Natural Gas Act (18 CFR 157.205, 157.216) for authorization to abandon certain facilities, located in York County, Maine, under Granite State's blanket certificate issued in Docket No. CP82-515-000, pursuant to Section 7(c) of the Natural Gas Act, all as more fully set forth in the request that is on file with the Commission and open to public inspection. This filing may be viewed on the web at http://www.ferc.fed.us/online/rims.htm (call 202-208-2222 for assistance).

Granite State proposes to abandon three facilities in Biddeford, Maine. First, Granite State requests authority to abandon a farm tap, the Southern Maine Medical Station (Southern Maine Station), located in York County, Maine. Granite State states that a local distribution company affiliate, Northern Utilities, Inc. (Northern Utilities), has already constructed facilities to serve those customers located behind the Southern Maine Station. Granite State, therefore, proposes to abandon and remove the Southern Maine Station, because it is no longer necessary to provide service and is duplicative of facilities owned and operated by Northern Utilities. Granite State declares that it will continue to provide natural gas service to Northern Utilities via other existing facilities in order to enable Northern Utilities to continue serving the load behind the Southern Maine Station. Granite State asserts that customers behind the Southern Maine Station will see no diminution in service.

Second, Granite State proposes to abandon and remove facilities known as the Biddeford Industrial Station (Biddeford Station), located York County, Maine. Granite State declares that it has previously constructed a new station at this location under Docket No. CP98-96. Therefore, Granite State asserts that the Biddeford Station facilities are not longer needed to provide service and are duplicative of the newly constructed facilities. Granite State states that service to customers behind the Biddeford Station will continue to be provided by Northern Utilities and will be unaffected by the proposed abandonment.

Third, Granite State proposes to abandon a third station, Five Points Station, also located in York County, Maine. Granite State declares that the Five Points Station, which is connected to Northern Utilities, is currently located within the path of a road construction project. Granite State proposes to remove, but not replace the Five Points Station. Granite State asserts that customers currently served, via Northern Utilities, will continue to be served by Northern Utilities by providing service to these customers with natural gas from other points of interconnect with Granite State, including the Biddeford Station. Granite State states that these customers will be wholly unaffected by grant of this application.

Granite State asserts that the proposed abandonments of the Southern Maine, Biddeford, and Five Points Stations will not affect Granite State's revenues. Granite State states that the combined net book value of all three of these stations is $21,856.42. Granite State declares that Northern Utilities has consented to the proposed abandonments and also will continue to serve all customers located behind the three stations proposed to be abandoned.

Any questions regarding the application should be directed to George Simmons, Director, Regulatory Affairs, Granite State Gas Transmission, Inc., 300 Friberg Parkway, Westborough, Massachusetts 01581, phone: (508) 836-7265.

Any person or the Commission's staff may, within 45 days after issuance of the instance notice by the Commission, file pursuant to Rule 214 of the Commission's Procedural Rules (18 CFR 385.214) a motion to intervene or notice of intervention and, pursuant to Section 157.205 of the Regulations under the Natural Gas Act (18 CFR 157.205), a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act. Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-27087 Filed 10-20-00; 8:45 am]

BILLING CODE 6717-01-M